DEPARTMENT OF HEALTH AND HUMAN SERVICES

Office of the Secretary

Availability of Funds for Grants for the Minority Community Health Coalition Demonstration Grant Program, HIV/AIDS

AGENCY: Department of Health and Human Services, Office of the Secretary, Office of Public Health and Science, Office of Minority Health.

ACTION: Notice.

SUMMARY: The purpose of this Fiscal Year 2002 Minority Community Health Coalition Demonstration Grant Program, HIV/AIDS is to improve health status relative to HIV/AIDS, of targeted minority populations (see definition of Minority Populations) through health promotion and education activities. This program is intended to demonstrate the effectiveness of community-based coalitions involving non-traditional partners in:

1. Developing an integrated community-based response to the HIV/AIDS crisis through community dialogue and interaction;

2. Addressing sociocultural, linguistic and other barriers to HIV/AIDS treatment to increase the number of individuals seeking and accepting services; and

3. Developing and conducting HIV/AIDS education and outreach efforts for hardly reached populations.

Authority: This program is authorized under section 1707(e)(1) of the Public Health Service Act (PHS), as amended.

The overall goal is to increase the health status of minority populations by increasing the educational understanding of HIV/AIDS, and improving access to HIV/AIDS prevention, testing, and treatment services.

Project outcomes must include any or all of the following:

• Reduction in high-risk behaviors (e.g., injection drug use, multiple partners, unprotected sex).

• Increased counseling and testing services for hardly reached minority populations (e.g., youth, women at risk, men having sex with men, homeless persons, injection drug users, mentally ill persons, incarcerated persons).

• Improved access to health care for hardly reached minority populations (e.g., youth, women at risk, men having sex with men, homeless persons, injection drug users, mentally ill persons, incarcerated persons).

• Increased number of community-based minority-serving organizations (e.g., faith based organizations, sororities, fraternities, rotary clubs) directly involved in addressing the HIV/AIDS epidemic.

ADDRESSES: For this grant, applicants must use Form 5161-1 (Revised July 2000 and approved by OMB under Control Number 0348-0043). Applicants are advised to pay close attention to the specific program guidelines and general instructions provided in the application kit. To get an application kit, write to: Ms. Chanee Jackson, OMH Grants Management Center, c/o Health Management Resources, Inc., 8401 Corporate Drive, Suite 400, Landover, MD 20785, e-mail grantrequests@healthman.com, fax (301) 429-2315; or call Chanee Jackson at (301) 429-2300. Send the original and 2 copies of the complete grant application to Ms. Chanee Jackson at the same address.

DATES: To receive consideration, grant applications must be postmarked by the OMH Grants Management Center by 5 p.m. EDT on July 25, 2002. Applications postmarked after the exact date and time specified for receipt will not be accepted. Applications submitted by facsimile transmission (FAX) or any other electronic format will not be accepted. Applications which do not meet the deadline will be returned to the applicant unread.

FOR FURTHER INFORMATION CONTACT: Ms. Karen Campbell, Grants Management Officer, for technical assistance on budget and business aspects of the application. She may be contacted at the Office of Minority Health, Rockwall II Building, Suite 1000, 5515 Security Lane, Rockville, MD 20852; or by calling (301) 594-0758. For questions on the program and assistance in preparing the grant proposal, contact: Ms. Cynthia H. Amis, Director, Division of Program Operations, at the same address; or by calling (301) 594-0769.

For additional assistance contact the OMH Regional Minority Health Consultants listed in the grant application kit. For health information call OMH Resource Center at 1-800-444-6472.

SUPPLEMENTARY INFORMATION: OMB Catalog of Federal Domestic Assistance: The Catalog of Federal Domestic Assistance Number for this program is 93.137.

Availability of Funds: About $2.5 million is expected to be available for award in FY 2002. It is expected that 17 to 25 awards will be made. Support may be requested for a total project period not to exceed 3 years.

Those applicants funded through the competitive process:

• Are to begin their projects on September 30, 2002.

• Will receive an award up to $150,000 total costs (direct and indirect) for a 12-month period.

• Will be able to apply for a noncompeting continuation award up to $150,000 (direct and indirect costs) for each of two additional years. After year 1, funding will be based on:

—The amount of money available; and

—Success or progress in meeting project objectives.

Note: For the noncompeting continuation awards, grantees must submit continuation applications, written reports, and continue to meet the established program guidelines.

Eligible Applicants: To qualify for funding, an applicant must:

1. Be a private non-profit community-based, minority-serving organization (see definition found in this announcement) which addresses health and human services;

2. Have an established community coalition of at least three discrete organizations. The applicant and at least one of the three organizations must have significant experience in conducting HIV/AIDS education, prevention and outreach activities; and

3. Be a community-based minority-serving organization and have at least five years or more experience in HIV/AIDS. One of the three organizations must be an AIDS Service Organization (ASO) with at least three years of experience. At least one of the coalition members must be an organization rooted in the community but with no experience conducting HIV/AIDS programs. The coalition must be documented in writing as specified under the project requirements described in this announcement.

Note: Faith-based organizations that meet the above criteria are eligible to apply for these Minority Community Health Coalition Demonstration Program, HIV/AIDS grants. Tribal organizations and local affiliates of national, state-wide, or regional organizations that meet the definition of a private non-profit community-based, minority-serving organization are also eligible to apply.

The organization submitting the application will:

• Serve as the lead agency for the project, responsible for its implementation and management.

• Serve as the fiscal agent for the federal grant awarded.

Organizations may not receive a grant from more than one OMH program at the same time. However, an organization with an OMH grant that ends by 9/29/02 can submit an application under this announcement.

Note: State, local, and tribal governments may not apply for this grant. For-profit hospitals and local school districts are also ineligible, although they all can be included in the project as a member of the community coalition.

Background

This program is based on the premise that a community coalition approach to health promotion and education activities can be effective in reaching minority target populations (see definition of Minority Populations)—especially those most at risk or hardly reached.

Among the merits of using coalitions is the higher likelihood that:

1. The intervention will be culturally and linguistically competent, credible, and more acceptable to the target population;

2. The project will address HIV/AIDS within the context of related socio-economic issues; and

3. The effort will contribute to overall community empowerment by strengthening indigenous leadership and organizations.

The OMH is continuing, through this announcement, to promote the utilization of community coalitions to develop and implement health promotion/education activities to specifically focus on HIV/AIDS. The OMH is also interested in involving those organizations in the coalition that have not traditionally been involved in HIV/AIDS prevention activities or services and outreach (e.g., faith-based organizations, sororities, fraternities, rotary clubs) so that hardly reached populations (e.g., inmates, homeless, women at risk, youth) are provided needed services. By including organizations that have not traditionally been involved in HIV/AIDS activities, the community coalition will expand its network and ability to access and serve these hardly reached populations. Applicants are also encouraged to establish linkages with other federally funded programs supporting HIV prevention and care to maximize these efforts.

The Census 2000 Brief ¹ reports the U.S. population as 281.4 million, with 36.4 million ² Blacks or African Americans, or 12.9 percent; 35.3 million Hispanics, or 12.5 percent; approximately 12.8 million Asians/Native Hawaiians and Other Pacific Islanders, or 4.5 percent; and approximately 4 million American Indians/Alaska Natives or 1.5 percent of the total population. HIV/AIDS remains a disproportionate threat to minorities. As of December 31, 2000, the Centers for Disease Control and Prevention (CDC) received reports of 774,467 (cumulative) cases of persons with AIDS in the U.S.³, of whom 38 percent were Black or African American, and 18 percent were Hispanic.

¹ U.S. Census Bureau, The Black Population: 2000—Census 2000 Brief, August 2001.

² This number includes individuals who self-reported as Black, or as Black and one or more other race on the Census 2000 questionnaire.

³ HIV/AIDS Surveillance Report—U.S. HIV and AIDS cases reported through December 2000, Year-End Edition, Vol. 12, No. 2.

Of the 42,156 AIDS cases reported to CDC during 2000, 41,960 were adult/adolescent and 196 were children (<13 years of age). For the adult/adolescent population, 47 percent were Black or African American, and 19 percent were Hispanic. Of the 196 children reported with AIDS, 65 percent were Black non-Hispanic, and 17 percent were Hispanic.

Through December 2000, the most common exposure category reported for AIDS cases among African American and Hispanic males was men who have sex with men (37% and 42%, respectively), with the second most common exposure being injection drug use (34% and 35%, respectively).

HIV infection among U.S. women has increased significantly over the last decade, especially in communities of color. Between 1985 and 1999, the proportion of all AIDS cases reported among adult and adolescent women more than tripled, from 7 to 23 percent. African American and Hispanic women account for more than three-fourths, or 77 percent, of the AIDS cases reported among women in the U.S. Through December 2000, the most common exposure categories for AIDS cases among African American and Hispanic females were heterosexual contact (47%, Hispanic; 38%, African American) and injection drug use (41%, African American; 40%, Hispanic). Young African American and Hispanic women accounted for more than three-fourths of the HIV infections reported among females between the ages of 13 to 24, according to reports to the CDC from the 32 areas with confidential HIV reporting for adults and adolescents for all years combined through 1999.

Project Requirements

Each project funded under this demonstration grant program must:

1. Propose to conduct a replicable, model program using an integrated community-based response to the HIV/AIDS crisis through community dialogue and interaction designed to improve the health status of targeted minority populations.

2. Have an established coalition prior to submission of an application that is capable of ensuring that the target population is provided with HIV/AIDS health promotion and education outreach activities that are linguistically, culturally, and age appropriate especially for hardly reached populations.

3. Engage minority communities in activities that will impact attitudes and perceptions in these communities to increase the number of individuals seeking and accepting services.

4. Have a minimum of three discrete organizations in the coalition which include:

• A community-based minority-serving organization;

• An AIDS Service Organization (ASO); and

• An organization rooted in the community with no experience in HIV/AIDS activities.

As the applicant, the community-based minority-serving organization must have at least five years of documented experience in conducting HIV/AIDS education and health promotion activities. The coalition must include an ASO with at least three years of documented experience to ensure that information dissemination on HIV/AIDS and related issues is current and accurate from a medical point of view. The coalition must also include at least one organization rooted in the community that has not traditionally been involved in HIV/AIDS activities.

5. A single (1) signed agreement between the community-based organization, the AIDS Service Organization and the inexperienced organization must be submitted with the application. The agreement must specify in detail the roles and resources that each entity will bring to the project, and the terms of the linkage. The linkage agreement must cover the entire project period. The document must be signed by individuals with the authority to represent the organization (e.g., president, chief executive officer, executive director).

Use of Grants Funds: Budgets up to $150,000 total costs (direct and indirect) may be requested per year to cover costs of:

• Personnel;

• Consultants;

• Supplies;

• Equipment;

• Grant related travel;

• Other grant related costs.

Note: All budget requests must be fully justified in terms of the proposed purpose, objectives and activities. Funds to attend an annual OMH grantee meeting must be included in the budget. Funds may not be used for:

• Medical treatment;

• Building alterations or renovations;

• Construction;

• Fund raising activities;

• Job training.

Review of Applications

• Applications will be screened upon receipt. Those that are judged to be incomplete, non-responsive, or non-conforming to the announcement will not be accepted for review and will be returned.

• Each organization may submit no more than one proposal under this announcement.

• Accepted applications will be reviewed for technical merit in accordance with PHS policies.

• Accepted applications will be evaluated by an Objective Review Committee. Committee members will be chosen for their understanding of the health problems and related issues confronted by racial and ethnic minority populations in the United States.

Application Review Criteria: The technical review of applications will consider the following 5 generic factors.

Factor 1: Program Plan (35%)

• Appropriateness of proposed approach and specific activities for each objective.

• Logic and sequencing of the planned approaches in relation to the objectives and program evaluation.

• Extent to which the applicant demonstrates access to the target population.

• Soundness of established linkages.

Factor 2: Evaluation (20%)

• Thoroughness, feasibility and appropriateness of the evaluation design, data collection and analysis procedures.

• Potential for proposed plan to impact the HIV/AIDS health disparities experienced by minority populations within the target communities.

• Clarity of the intent and plans to document the activities and their outcomes.

• Potential for replication of the project for similar target populations and communities.

Factor 3: Background (15%)

• Demonstrated knowledge of the problem at the local level.

• Demonstrated need within the proposed community and target population.

• Demonstrated support of local agencies and/or organizations, and established coalition in order to conduct proposed model.

• Extent and documented outcome of past efforts/activities with the target population. (Currently funded Minority Community Health Coalition Demonstration Grant Program, HIV/AIDS grantees [competing continuation applicants] must attach a progress report describing project accomplishments/outcomes.)

Factor 4: Objectives (15%)

• Merit of the objectives.

• Relevance to the program purpose and stated problems.

• Attainability in the stated time frames.

Factor 5: Management Plan (15%)

• Applicant organization's capability to manage and evaluate the project as determined by:

—Qualifications and appropriateness of proposed staff or requirements for “to be hired” staff

—Proposed staff level of effort

—Management experience of the applicant

• Appropriateness of defined roles including staff reporting channels and that of any proposed contractors.

• Experience of each coalition member as it relates to its defined roles in the project.

• Clear lines of authority and accountability among the proposed staff within and between participating organizations.

Award Criteria

Funding decisions will be determined by the Deputy Assistant Secretary for Minority Health of the OMH and will take under consideration:

• The recommendations and ratings of the review panel.

• Geographic and racial/ethnic distribution.

Reporting and Other Requirements

General Reporting Requirements: A successful applicant under this notice will submit: (1) Progress reports; (2) an annual Financial Status Report; and (3) a final progress report and Financial Status Report in the format established by the OMH, in accordance with provisions of the general regulations which apply under 45 CFR 74.51-74.52, with the exception of State and local governments to which 45 CFR part 92, subpart C reporting requirements apply.

Public Health System Reporting Requirements: This program is subject to Public Health Systems Reporting Requirements. Under these requirements, a community-based non-governmental applicant must prepare and submit a Public Health System Impact Statement (PHSIS). The PHSIS is intended to provide information to State and local health officials to keep them apprised of proposed health services grant applications submitted by community-based organizations within their jurisdictions.

Community-based non-governmental applicants are required to submit, no later than the Federal due date for receipt of the application, the following information to the head of the appropriate Stated and local health agencies in the area(s) to be impacted: (a) A copy of the face page of the application (SF 424), not to exceed one page, which provides: (1) A description of the population to be served; (2) a summary of the services to be provided; and (3) a description of the coordination planned with the appropriate State or local health agencies. Copies of the letters forwarding the PHSIS to these authorities must be contained in the application materials submitted to the Office of Minority Health.

State Reviews: This program is subject to the requirements of Executive Order 12372 which allows State the option of setting up a system for reviewing applications from within their States for assistance under certain Federal programs. The application kit available under this notice will contain a list of States which have chosen to setup a review system and will include a State Single Point of Contact (SPOC) in the State of review. Applicants (other than federally recognized Indian tribes) should contact their SPOCs as early as possible to alert them to the prospective applications and receive any necessary instructions on the State process. For proposed projects serving more than one State, the applicant is advised to contact the SPOC of each affected State. The due date for State process recommendations is 60 days after the application deadline established by the OMH Grants Management Officer.

The OMH does not guarantee that it will accommodate or explain its responses to State process recommendations received after that date. (See “Intergovernmental Review of Federal Programs” Executive Order 12372 and 45 CFR part 100 for a description of the review process and requirements).

Healthy People 2010

The PHS is committed to achieving the health promotion and disease prevention objectives of Healthy People 2010, a PHS-led national activity announced in January 2000 to eliminate health disparities and improve years and quality of life. More information may be found on the Healthy People 2010 web site: http//www.health.gov/healthypeople. Copies of the HealthyPeople2010: Volumes I and II can be purchased by calling (202) 512-1800 (cost $70.00 for printed version; $19.00 for CD-ROM). Another reference is the Healthy People 2000 Review 1998-99.

For one free copy of Healthy People 2010, contact: The National Center for Health Statistics (NCHS), Division of Data Services, 6525 Belcrest Road, Hyattsville, MD 20782-2003, or telephone (301) 458-4636; ask for HHS Publication No. (PHS) 99-1256.

This document may also be downloaded from the NCHS web site http://www.cdc.gov/nchs.

Definitions

For purposes of this grant announcement, the following definitions are provided:

AIDS Service Organization (ASO): A health association, support agency, or other service activity involved in the prevention and treatment of AIDS. (HIV/AIDS Treatment Information Service's Glossary of HIV/AIDS-Related Terms, March 1997.)

Community-Based 0rganization: A private nonprofit organization that is representative of communities or significant segments of communities, and where the control and decision-making powers are located at the community level.

Community-Based Minority-Serving Organization: A community-based organization that has a history of service to racial/ethnic minority populations. (See definition of Minority Population below.)

Community Coalition: At least three (3) discrete organizations and institutions in a community which collaborate on specific community concerns, and seek resolution of those concerns through a formalized relationship documented by written memoranda of understanding/ agreement signed by individuals with the authority to represent the organizations (e.g., president, chief executive officer, executive director).

Cultural Competency: A set of behaviors, attitudes, and policies that enable a system, agency, and /or individual to function effectively with culturally diverse clients and communities. (Randall-David, E., 1989)

Intervention: A combination of services designed to alter or modify a condition or outcome, or to change behavior to reduce the likelihood of a preventable health problem occurring or progressing further. Services include:

—Clinical preventive services (e.g., blood pressure screening)

—Environmental modifications

—Educational activities

—Coordinated networking activities among health and human service related programs

Minority Populations: American Indian or Alaska Native, Asian, Black or African American, Hispanic or Latino, and Native Hawaiian or Other Pacific Islander. (Revision to the Standards for the Classification of Federal Data on Race and Ethnicity, Federal Register, Vol. 62, No. 210, pg. 58782, October 30, 1997.)

Risk Factor: The environmental and behavioral influences capable of causing ill health with or without predisposition.

Sociocultural Barriers: Policies, practices, behaviors and beliefs that create obstacles to health care access and service delivery (e.g., cultural differences between individuals and institutions, cultural differences of beliefs about health and illness, customs and lifestyles, cultural differences in languages or nonverbal communication styles).

Dated: June 20, 2002.
Nathan Stinson, Jr.,
Deputy Assistant Secretary for Minority Health.

[FR Doc. 02-15984 Filed 6-24-02; 8:45 am]

BILLING CODE 4150-29-P